DEPARTMENT OF AGRICULTURE

Submission for OMB Review; Comment Request

April 19, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

30-Day Federal Register Notice

Forest Service

Title: Aldo Leopold Wilderness Research Institute Wilderness Visitor Study.

OMB Control Number: 0596-NEW.

Summary of Collection: Management of specific parks is directed by laws, policies, and Wilderness Stewardship Plans. The Wilderness Act of 1964 directs the National Wilderness Preservation System be managed to protect natural wilderness conditions and to provide outstanding opportunities for the public to find solitude or primitive and unconfined types of recreational experiences. The Aldo Leopold Wilderness Research Institute will gather, analyze, and report on information from visitors to contribute to wilderness stewardship planning. Visitors will be provided with the option of (1) using postage paid envelope to mail a hard copy of the survey to the Leopold Institute, (2) receive an electronic e-mail form of the survey or (3) access a web-based form of the electronic survey.

Need and Use of the Information: Respondents will only be overnight recreation visitors to the wilderness of Sequoia and Kings Canyon National Parks during the summers of 2011 and 2012. Visitors will be contacted from information they provide in their required overnight wilderness permits. The voluntary survey will ask visitors questions about their recreation visit, personal demographics relevant to education and service provision, and factors that have influenced or are likely to influence their recreational wilderness visits. The National Park Service will use information from this collection to help make the Wilderness Stewardship Plan responsive to legislative and policy guidelines as well as acknowledging a changing client base of American citizens and foreign visitors.

Description of Respondents: Individuals or households.

Number of Respondents: 500.

Frequency of Responses: Reporting: Other (one time).

Total Burden Hours: 167.

Charlene Parker,
Departmental Information Collection Clearance Officer.

[FR Doc. 2011-9886 Filed 4-22-11; 8:45 am]

BILLING CODE 3410-11-P